DEPARTMENT OF TRANSPORTATION

Pipeline and Hazardous Materials Safety Administration

[Docket No. PHMSA-2019-0100]

Hazardous Materials Safety: Notice of Availability of the Draft Environmental Assessment for a Special Permit Request for Liquefied Natural Gas by Rail

AGENCY: Pipeline and Hazardous Materials Safety Administration (PHMSA), DOT.

ACTION: Notice.

SUMMARY: PHMSA announces the availability for public review and comment of the draft environmental assessment for a special permit request to transport “Methane, Refrigerated Liquid” (i.e., liquefied natural gas) by rail tank car.

DATES: Comment must be received by July 8, 2019. To the extent possible, PHMSA will consider late-filed comments.

ADDRESSES: Comments should reference the Docket number for this notice and may be submitted in the following ways:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2019-0100) for this notice at the beginning of the comment. To avoid duplication, please use only one of these four methods. All comments received will be posted without change to the Federal Docket Management System (FDMS) and will include any personal information you provide. If sent by mail, comments must be submitted in duplicate. Persons wishing to receive confirmation of receipt of their comments must include a self-addressed stamped postcard.

Docket: For access to the dockets to read associated documents or comments received, go to http://www.regulations.gov or DOT's Docket Operations Office (see ADDRESSES).

Privacy Act: In accordance with 5 U.S.C. 553(c), DOT solicits comments from the public to better inform its process. DOT posts these comments, without change, including any personal information the commenter provides, to http://www.regulations.gov, as described in the system of records notice (DOT/ALL-14 FDMS), which can be reviewed at http://www.dot.gov/privacy.

FOR FURTHER INFORMATION CONTACT: Ryan Paquet by telephone at 202-366-4511, or email at specialpermits@dot.gov.

SUPPLEMENTARY INFORMATION: PHMSA received a request for special permit from Energy Transport Solutions, LLC seeking authorization to transport “Methane, Refrigerated Liquid” (UN1972), commonly known and liquefied natural gas (LNG), in a rail tank car. Specifically, the request is to authorize shipment of LNG in a DOT specification 113C120W tank car subject to certain operational conditions. We invite interested persons to review and provide comment on the “draft environmental assessment” for this special permit request. Please include comment on potential safety, environmental, and any additional impacts that should be considered. The document is available at http://www.regulations.gov under Docket number PHMSA-2019-0100. PHMSA has also included the draft special permit in the docket for this notice as further reference material. Before issuing a final decision on the special permit request, PHMSA will evaluate all comments and consider each relevant comment we receive in making our decision to grant or deny the request for special permit.

Issued in Washington, DC, on June 3, 2019, under authority delegated in 49 CFR 1.97.
William S. Schoonover,
Associate Administrator for Hazardous Materials Safety, Pipeline and Hazardous Materials Safety Administration.

[FR Doc. 2019-11882 Filed 6-5-19; 8:45 am]

BILLING CODE 4910-60-P